DEPARTMENT OF TRANSPORTATION

Federal Aviation Administration

Notice of Intent To Rule on Application 04-02-C-00-AGS To Impose and Use the Revenue From a Passenger Facility Charge (PFC) at Augusta Regional Airport, Augusta, GA

AGENCY: Federal Aviation Administration (FAA), DOT.

ACTION: Notice of Intent to Rule on Application.

SUMMARY: The FAA proposes to rule and invites public comment on the application to impose and use the revenue from a PFC at Augusta Regional Airport under the provisions of the 49 U.S.C. 40117 and Part 158 of the Federal Aviation Regulations (14 CFR Part 158).

DATES: Comments must be received on or before October 4, 2004.

ADDRESSES: Comments on this application may be mailed or delivered in triplicate to the FAA at the following address: Atlanta Airports District Office, 1701 Columbia Avenue, Suite 2-260, College Park, Georgia.

In addition, one copy of any comments submitted to the FAA must be mailed or delivered to Willis Boshears, Executive Director of the Augusta Regional Airport at the following address: 1501 Aviation Way, Augusta, GA 30906.

Air carriers and foreign air carriers may submit copies of written comments previously provided to the Augusta Regional Airport under section 158.23 of Part 158.

FOR FURTHER INFORMATION CONTACT: Paul Lo, Program Manager, Atlanta Airports District Office, 1701 Columbia Avenue, Suite 2-260, College Park, Georgia 30337, (404) 305-7145. The application may be reviewed in person at this same location.

SUPPLEMENTARY INFORMATION: The FAA proposes to rule and invites public comment on the application to impose and use the revenue from a PFC at Augusta Regional Airport under the provisions of the 49 U.S.C. 40117 and Part 158 of the Federal Aviation Regulations (14 CFR Part 158).

On August 25, 2004, the FAA determined that the application to impose and use the revenue from a PFC submitted by Augusta Regional Airport was substantially complete within the requirements of section 158.25 of Part 158. The FAA will approve or disapprove the application, in whole or in part, no later than November 24, 2004.

The following is a brief overview of the application.

Proposed charge effective date: December 1, 2004.

Proposed charge expiration date: August 1, 2031.

Level of the proposed PFC: $4.50.

Total estimated PFC revenue: $2,007,000.

Brief description of proposed project(s): Fencing Improvements, Terminal Security Improvements, Runway Safety Area Improvements, Communication Equipment, Runway 8-26 Rehabilitation, General Aviation Apron Rehabilitation, Taxiway E Rehabilitation, ALP Update, Runway 17-35 Rehabilitation, PFC Administrative Costs.

Class or classes of air carriers which the public agency has requested not be required to collect PFCs: Nonscheduled/On-Demand Air Carriers filing FAA form 1800-31.

Any person may inspect the application in person at the FAA office listed above under FOR FURTHER INFORMATION CONTACT.

In addition, any person may, upon request, inspect the application, notice and other documents germane to the application in person at the Augusta Regional Airport.

Issued in College Park, Georgia, on August 25, 2004.
Scott L. Seritt,
Manager, Atlanta Airports District Office, Southern Region.

[FR Doc. 04-20063 Filed 9-1-04; 8:45 am]

BILLING CODE 4910-13-M